DEPARTMENT OF HOUSING AND URBAN DEVELOPMENT

[Docket No. FR-7024-N-52]

30-Day Notice of Proposed Information Collection: 2021 American Housing Survey; OMB Control No. 2528-0017

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: January 13, 2021.

ADDRESSES: Interested persons are invited to submit comments regarding this proposal. Comments should refer to the proposal by name and/or OMB Control Number and should be sent to: HUD Desk Officer, Office of Management and Budget, New Executive Office Building, Washington, DC 20503; fax:202-395-5806, Email: OIRA Submission@omb.eop.gov.

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A. The Federal Register notice that solicited public comment on the information collection for a period of 60 days was published on Friday August 4, 2020 at 85 FR 47981.

A. Overview of Information Collection

Title of Information Collection: 2021 American Housing Survey.

OMB Approval Number: 2528-0017.

Type of Request: Revision of currently approved collection.

Form Number: N/A.

Description of the need for the information and proposed use: The purpose of the American Housing Survey (AHS) is to supply the public with detailed and timely information about housing quality, housing costs, and neighborhood assets, in support of effective housing policy, programs, and markets. Title 12, United States Code, Sections 1701Z-1, 1701Z-2(g), and 1710Z-10a mandates the collection of this information.

Like the previous surveys, the 2021 AHS will collect “core” data on subjects, such as the amount and types of changes in the housing inventory, the physical condition of the housing inventory, the characteristics of the occupants, housing costs for owners and renters, including a redesigned mortgage section, the persons eligible for and beneficiaries of assisted housing, remodeling and repair frequency, reasons for moving, the number and characteristics of vacancies, and characteristics of resident's neighborhood. In addition to the “core” data, HUD plans to collect supplemental data on the renter housing search process, intent to move, housing characteristics that increase wildfire risk, household pets, delinquent payments and notices for mortgage, rent, or utility bills, and smoking.

In 2015, the AHS began a new longitudinal panel. The sample design has two components: an integrated longitudinal national sample, and an independent metropolitan areas longitudinal sample. The integrated longitudinal national sample includes three parts: (1) 35,731 national cases representative of the US and 9 Census Divisions outside the top 15 metropolitan areas; (2) 12,060 HUD-assisted oversample cases; and (3) 47,175 sample cases of the top 15 metropolitan areas in the US. The total integrated longitudinal national sample for 2021 will consist of 94,966 housing units. In addition to the integrated national longitudinal sample, HUD plans to conduct 10 additional metropolitan area longitudinal samples, each with approximately 3,000 housing units (for a total 30,000 metropolitan area housing units). The 10 additional metropolitan area longitudinal samples were last surveyed in 2017.

To help reduce respondent burden on households in the longitudinal sample, the 2021 AHS will make use of dependent interviewing techniques, which will decrease the number of questions asked. Policy analysts, program managers, budget analysts, and Congressional staff use AHS data to advise executive and legislative branches about housing conditions and the suitability of public policy initiatives. Academic researchers and private organizations also use AHS data in efforts of specific interest and concern to their respective communities.

HUD needs the AHS data for the following two reasons:

1. With the data, policy analysts can monitor the interaction among housing needs, demand and supply, as well as changes in housing conditions and costs, to aid in the development of housing policies and the design of housing programs appropriate for different target groups, such as first-time home buyers and the elderly.

2. With the data, HUD can evaluate, monitor, and design HUD programs to improve efficiency and effectiveness.

HUD intends to test the use of incentives to reduce nonresponse bias in the AHS. The proposed incentive project will test whether offering incentives to respondents in units both at high risk of nonresponse and likely to introduce bias can successfully increase responses from groups that would contribute to nonresponse bias. The incentive study will compare the sample characteristics of respondents randomly selected to receive incentives according to their predicted risk of nonresponse and likelihood of introducing bias to the sample characteristics of respondents randomly selected to receive incentives at random. Additionally, the incentive amounts will be randomly varied among respondents selected to receive incentives. Conditions will be compared to determine sensitivity to the amount of the incentive in motivating response compared to a no-incentive control.

The incentive project will address the following research questions:

1. Can incentives reduce non-response bias in the AHS?

2. Where is the inflection point for diminishing marginal returns for monetary incentives?

3. What are the effects of introducing incentives into a panel survey on responses in later survey waves?

Information collection | Number of respondents | Frequency of response | Responses per annum | Burden hour per response | Annual burden hours | Hourly cost per response | Annual cost
Occupied Interviews | 86,962.00 | 1.00 | 86,962.00 | .66 | 57,395.00 | $0.00 | $0.00
Vacant Interviews | 12,788.00 | 1.00 | 12,788.00 | .33 | 4,220.00 | 0.00 | 0.00
Non-interviews | 24,298.00 | 1.00 | 24,298.00 | .00 | 0.00 | 0.00 | 0.00
Ineligible | 3837.00 | 1.00 | 3,837.00 | .00 | 0.00 | 0.00 | 0.00
Subtotal | 127,885.00 | 1.00 | 127,885.00 | .00 | .00 | 0.00 | 0.00
Reinterviews | 8,952.00 | 1.00 | 8,952.00 | .17 | 1,522.00 | 0.00 | 0.00
Total | 136,837.00 |  | 136,837.00 |  | 63,137.00 |  |

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

Authority: Section 3507 of the Paperwork Reduction Act of 1995, 44 U.S.C. Chapter 35.

Anna P. Guido,
Department Reports Management Officer, Office of the Chief Information Officer.

[FR Doc. 2020-27427 Filed 12-11-20; 8:45 am]

BILLING CODE 4210-67-P